ENVIRONMENTAL PROTECTION AGENCY

40 CFR Part 52

[TX-121-1-7450a; FRL-6913-4]

Approval and Promulgation of Implementation Plans; Texas; Control of Emissions of Volatile Organic Compounds from Batch Processes, Industrial Wastewater and Service Stations

AGENCY: Environmental Protection Agency (EPA).

ACTION: Direct final rule.

SUMMARY: The EPA is taking direct final action to approve revisions to the Texas State Implementation Plan (SIP). The revisions incorporate regulations to control Volatile Organic Compound (VOC) emissions from batch processes, industrial wastewater, and during the filling of underground storage tanks at gasoline service stations. The intended effect is to approve the regulations into the Texas SIP. This action is being taken in accordance with the Federal Clean Air Act (Act).

DATES: This rule is effective on February 20, 2001 without further notice, unless EPA receives adverse comment by January 19, 2001. If EPA receives such adverse comment, EPA will publish a timely withdrawal in the Federal Register informing the public the rule will not take effect.

ADDRESSES: Written comments on this action should be addressed to Mr. Thomas Diggs, Chief, Air Planning Section (6PD-L), at the EPA Region 6 Office listed below.

Copies of the documents relevant to this action, including the Technical Support Document (TSD), are available for public inspection during normal business hours at the following locations. Interested persons wanting to examine these documents should make an appointment with the appropriate office at least two working days in advance.

Environmental Protection Agency, Region 6, Air Planning Section (6PD-L), Multimedia Planning and Permitting Division, Region 6, Dallas, 1445 Ross Avenue, Texas 75202-2733, telephone: (214) 665-7214.

Texas Natural Resource Conservation Commission, 12100 Park 35 Circle, Austin, Texas 78711-3087.

FOR FURTHER INFORMATION CONTACT: Mr. Guy R. Donaldson, Air Planning Section (6PD-L), Multimedia Planning and Permitting Division, Environmental Protection Agency, Region 6, 1445 Ross Avenue, Dallas, Texas 75202-2733, telephone: (214) 665-7242.

SUPPLEMENTARY INFORMATION:

Table of Contents

1. What action is EPA taking?

2. What is a Reasonably Available Control Technology (RACT)?

3. Why do we regulate Volatile Organic Compounds (VOCs)?

4. What is a Volatile Organic Compound (VOC)?

5. What do the Industrial Wastewater Rules Require?

6. What do the Batch Processing Rules Require?

7. What is required by the revisions to the vapor recovery rules for gasoline service stations?

8. What is a State Implementation Plan (SIP)?

9. What is the Federal approval process for a SIP?

10. What does Federal approval of a SIP mean to me?

Throughout this document “we,” “us,” and “our” means EPA. Please note that if we receive adverse comment(s) on an amendment, paragraph, or section of this rule and if that provision is independent of the remainder of the rule, we may adopt as final those provisions of the rule that are not the subject of adverse comment.

1. What Action Is EPA Taking?

We are approving three provisions as part of the Texas State Implementation Plan. We believe these revisions will help Texas meet certain requirements of the Clean Air Act and they will contribute to attainment of the one-hour ozone standard in the Houston/Galveston, Beaumont/Port Arthur and Dallas/Fort Worth nonattainment areas. The three provisions are:

• We are approving rules to control emissions from industrial wastewater sources in the Synthetic Organic Chemical Industry (SOCMI) in the Houston/Galveston and Beaumont/Port Arthur ozone nonattainment areas (30 Texas Administrative Code(TAC)115.140-149) as meeting the section 182(b)(2) and section 183 Reasonably Available Control Technology (RACT) requirements. These rules were initially submitted for the Houston/Galveston, Dallas/Fort Worth, and El Paso areas in a letter from the Governor of Texas dated May 9, 1994 and given limited approval. See 64 FR 3841 (January 26, 1999) and 62 FR 27964 (May 22, 1997). The rules were revised as they relate to the Beaumont/Port Arthur and Houston/Galveston areas and submitted in a letter from the Governor of Texas dated November 12, 1999. We are approving the 1999 regulations as revised for the Beaumont/Port Arthur and Houston/Galveston areas as meeting RACT. Furthermore, we are converting the limited approval to a full approval because we now believe that RACT is being implemented for major sources in this source category in all four 1-hour ozone nonattainment areas in Texas. (We previously approved negative declarations for this source category in the El Paso and Dallas/Fort Worth areas. See 61 FR 55897 (October 30, 1996).)

• We are approving as RACT, rules to control emissions from batch processes in the Beaumont/Port Arthur ozone nonattainment area (30 TAC 115.160-115.169). The rules to control Batch Processes were submitted in a letter dated November 12, 1999.

• We are approving rules to require recovery of vapors displaced when tanker trucks unload gasoline at service stations in the eastern half of Texas (30 TAC 115.213-115.229 and 115.234-115.239). These rules were submitted in a letter dated August 9, 1999. We are approving these rules under part D of the Act because the State of Texas is relying upon these VOC reductions to demonstrate attainment of the 1-hour ozone standard in the Beaumont/Port Arthur, Dallas/Fort Worth, and Houston/Galveston areas. We are also approving these rules under sections 110 and 116 because the State is relying upon these rules for the continued maintenance of the standard in the eastern half of the State of Texas and as a strengthening of the existing Texas SIP.

In addition, when we approved the Texas VOC rules for the capture and control of the vapors at bulk gasoline plants and terminals on September 5, 2000 (65 FR 53595), the sections 115.213-115.217 that we approved were inadvertently not codified. Today, we are codifying those sections.

2. What Is a Reasonably Available Control Technology (RACT)?

Section 172(c)(1) of the Act contains general requirements for States to implement RACT in areas that do not meet the NAAQS. Section 182(b)(2) of the Act contains more specific requirements for moderate and above ozone nonattainment areas. The EPA has defined RACT as the lowest emission limitation that a particular source is capable of meeting by the application of control technology that is reasonably available, considering technological and economic feasibility. See 44 FR 53761 (September 17, 1979). RACT is required for major sources in ozone nonattainment areas and for minor sources where EPA has issued a Control Technique Guideline.

3. Why Do We Regulate Volatile Organic Compounds (VOCs)?

Oxygen in the atmosphere reacts with VOCs and Oxides of Nitrogen to form ozone, a key component of urban smog. Inhaling even low levels of ozone can trigger a variety of health problems including chest pains, coughing, nausea, throat irritation, and congestion. It also can worsen bronchitis and asthma. Exposure to ozone can also reduce lung capacity in healthy adults.

4. What Is a Volatile Organic Compound (VOC)?

Volatile Organic Compound is a term used to describe a class of chemicals that react in the atmosphere in the presence of sunlight to form ozone. Sources include vehicle exhaust, gasoline vapors, oil-based paints and industrial operations. A regulatory definition of Volatile Organic Compounds can be found at 40 CFR 51.100(s). The definition in Texas can be found in 30 TAC 115.10.

5. What Do the Industrial Wastewater Rules Require?

The wastewater from SOCMI facilities can contain significant quantities of VOC. These VOCs can enter the air when wastewater comes in contact with the atmosphere in junction boxes, holding ponds or open tanks. The Texas rules for the Houston/Galveston and Beaumont/Port Arthur areas require that 90 percent of the VOCs be removed from a wastewater stream before the wastewater is exposed to the air. Streams that contain more than 1000 ppm VOC are subject to the 90% removal requirement. The wastewater rules apply in Hardin, Jefferson and Orange counties in the Beaumont/Port Arthur area; Harris, Brazoria, Galveston, Liberty, Chambers, Waller, Montgomery, and Fort Bend Counties in the Houston/Galveston area.

In Dallas, Tarrant, Collin and Denton counties in the Dallas/Fort Worth area and El Paso County in the El Paso area, less stringent requirements that we had previously given limited approval continue in place. The EPA is converting the limited approval of the rules for Dallas/Fort Worth and El Paso to full approval because there are no major sources of VOCs from wastewater in those areas. Therefore, RACT is not required for this source category in those areas. We approved the determination by Texas that there are no major sources of VOCs from wastewater in the Dallas/Fort Worth and El Paso areas (a negative declaration) on October 30, 1996 (61 FR 55897). The negative declaration is still acceptable for the Dallas/Fort Worth area although the definition of a “major source” changed from 100 tons per year to 50 tons per year when we reclassified the area from moderate to serious. For a complete description of our review of the industrial wastewater rules see the TSD for this document.

6. What Do the Batch Processing Rules Require?

Batch Processes are those processes characterized by non-steady state conditions. Products are used to make pharmaceuticals and specialty chemicals. The products are made in batches rather than continuously. They generate emissions from vents from reactors and process vessels.

The rules require that the emissions from the vents be reduced by 90%. Vents can be exempted from control based on the volumetric flow rate of the gas stream and the mass flow rate of the VOCs. The rules include equations that allow vent streams to be considered separately and in combination to determine whether it is cost effective to control the vents. The rule envisions that several vent streams could be routed together to a common control device if in combination the streams are cost effective to control. If based on the equations, control of a stream is not found to be cost effective, either individually or combined with other streams in the batch process the stream is exempted from control.

The rules apply in the Hardin, Jefferson and Orange Counties in the Beaumont/Port Arthur nonattainment area. For a complete description of our review of the batch processing rules see the Technical Support Document for this action.

7. What Is Required by the Revisions to the Vapor Recovery Rules for Gasoline Service Stations?

The rules would require capturing the vapors from the gasoline station storage tanks as tank-trucks fill these tanks, returning the vapors to the tank-truck. This is commonly known as Stage I vapor recovery. The tank-truck then carries the vapors back to the bulk gasoline plant or terminal. To insure the vapors are not lost in transit, the Texas rules also include requirements that the gasoline tank-trucks be tested for vapor tightness. We are approving the vapor recovery requirements and the vapor tightness requirements.

Separate rules call for the capture and control of the vapors at bulk gasoline plants and terminals. We have reviewed the requirements for bulk gasoline plants and terminals and approved them in a separate Federal Register (see 65 FR 53595). In the previous approval action, however, we inadvertently omitted several sections from the codification table identifying the approved rules. We are codifying these sections to clarify which sections are approved. These sections are 30 TAC 115.213-115.217.

The Stage I rules have been in place for many years in the Dallas/Fort Worth, El Paso, Houston/Galveston and Beaumont/Port Arthur areas. The Texas rules expand the requirement to the larger gas stations in 95 additional counties in the eastern half of the State. The rules apply to service stations with a throughput greater than 125,000 gallons/month.

These counties are: Anderson, Angelina, Aransas, Atascosa, Austin, Bastrop, Bee, Bell, Bexar, Bosque, Bowie, Brazos, Burleson, Caldwell, Calhoun, Camp, Cass, Cherokee, Colorado, Comal, Cooke, Coryell, De Witt, Delta, Ellis, Falls, Fannin, Fayette, Franklin, Freestone, Goliad, Gonzales, Grayson, Gregg, Grimes, Guadalupe, Harrison, Hays, Henderson, Hill, Hood, Hopkins, Houston, Hunt, Jackson, Jasper, Johnson, Karnes, Kaufman, Lamar, Lavaca, Lee, Leon, Limestone, Live Oak, Madison, Marion, Matagorda, McLennan, Milam, Morris, Nacogdoches, Navarro, Newton, Nueces, Panola, Parker, Polk, Rains, Red River, Refugio, Robertson, Rockwall, Rusk, Sabine, San Jacinto, San Patricio, San Augustine, Shelby, Smith, Somervell, Titus, Travis, Trinity, Tyler, Upshur, Van Zandt, Victoria, Walker, Washington, Wharton, Williamson, Wilson, Wise, and Wood.

These rules are designed to reduce overall background levels of ozone in the eastern portion of Texas. TNRCC has included these reductions in its attainment plans for Houston/Galveston, Beaumont/Port Arthur and Dallas/Fort Worth. In addition, the rules will help other areas such as Austin and San Antonio maintain attainment of the one-hour ozone standard.

Our Regional office developed a Federal Implementation Plan (FIP) (40 CFR 52.2285) for Bexar County, and certain counties in central and east Texas, in the mid-1970s. The FIP applied to service stations with a storage capacity greater than or equal to 1000 gallons. The Texas rules that we are approving as a revision to the Texas SIP set exemption levels based on throughput, not storage capacity. Upon the effective date of our approval of sections 115.222-115.229, affected sources will only need to comply with the State's SIP-approved VOC rules and not our FIP VOC rule. The affected sources are service stations with a throughput greater than 125,000 gallons per month.

The FIP requirements will remain in place for service stations with a storage capacity greater than or equal to 1000 gallons and a throughput less than 125,000 gallons per month. The affected counties are: Bexar, Comal, Ellis, Guadalupe, Hood, Johnson, Kaufman, Matagorda, Parker, Rockwall, and Wise.

8. What Is a State Implementation Plan (SIP)?

Section 110 of the Act requires States to develop air pollution regulations and control strategies to ensure that State air quality meets the NAAQS that EPA has established. Under section 109 of the Act, EPA established the NAAQS to protect public health. The NAAQS address six criteria pollutants. These criteria pollutants are: carbon monoxide, nitrogen dioxide, ozone, lead, particulate matter, and sulfur dioxide.

Each State must submit these regulations and control strategies to us for approval and incorporation into the federally enforceable SIP. Each State has a SIP designed to protect air quality. These SIPs can be extensive, containing State regulations or other enforceable documents and supporting information such as emission inventories, monitoring networks, and modeling demonstrations.

9. What Is the Federal Approval Process for a SIP?

When a State wants to incorporate its regulations into the federally enforceable SIP, the State must formally adopt the regulations and control strategies consistent with State and Federal requirements. This process includes a public notice, a public hearing, a public comment period, and a formal adoption by a state-authorized rulemaking body.

Once a State adopts a rule, regulation, or control strategy, the State may submit the adopted provisions to us and request that we include these provisions in the federally enforceable SIP. We must then decide on an appropriate Federal action, provide public notice on this action, and seek additional public comment regarding this action. If we receive adverse comments, we must address them prior to a final action.

Under section 110 of the Act, when we approve a State's regulation(s) and supporting information, those State regulation(s) and supporting information become a part of the federally approved SIP. You can find records of these SIP actions in the Code of Federal Regulations at title 40, part 52, entitled “Approval and Promulgation of Implementation Plans.” The actual State regulations that we approved are not reproduced in their entirety in the CFR but are “incorporated by reference,” which means that we have approved a given State regulation with a specific effective date.

10. What Does Federal Approval of a SIP Mean to Me?

A State may enforce State regulations before and after we incorporate those regulations into a federally approved SIP. After we incorporate those regulations into a federally approved SIP, both EPA and the public may also take enforcement action against violators of these regulations.

The EPA is publishing this rule without prior proposal because we view this as a noncontroversial amendment and anticipate no adverse comments. However, in the “Proposed Rules” section of today's Federal Register publication, we are publishing a separate document that will serve as the proposal to approve the SIP revision if adverse comments are received. This rule will be effective on February 20, 2001 without further notice unless we receive adverse comment by January 19, 2001. If EPA receives adverse comments, we will publish a timely withdrawal in the Federal Register informing the public that the rule will not take effect. We will address all public comments in a subsequent final rule based on the proposed rule. We will not institute a second comment period on this action. Any parties interested in commenting must do so at this time.

Administrative Requirements

Under Executive Order 12866 (58 FR 51735, October 4, 1993), this action is not a “significant regulatory action” and therefore is not subject to review by the Office of Management and Budget. This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a State rule implementing a Federal standard, and does not alter the relationship or the distribution of power and responsibilities established in the Act. This rule also is not subject to Executive Order 13045 (62 FR 19885, April 23, 1997), because it is not economically significant.

In reviewing SIP submissions, EPA's role is to approve State choices, provided that they meet the criteria of the Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Act. Thus, the requirements of section 12(d) of the National Technology Transfer and Advancement Act of 1995 (15 U.S.C. 272 note) do not apply. The rule does not involve special consideration of environmental justice related issues as required by Executive Order 12898 (59 FR 7629, February 16,1994). As required by section 3 of Executive Order 12988 (61 FR 4729, February 7, 1996), in issuing this rule, EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective February 20, 2001 unless EPA receives adverse written comments by January 19, 2001.

Under section 307(b)(1) of the Act, petitions for judicial review of this action must be filed in the United States Court of Appeals for the appropriate circuit by February 20, 2001. Filing a petition for reconsideration by the Administrator of this final rule does not affect the finality of this rule for the purposes of judicial review nor does it extend the time within which a petition for judicial review may be filed, and shall not postpone the effectiveness of such rule or action. This action may not be challenged later in proceedings to enforce its requirements. See section 307(b)(2) of the Act.

List of Subjects in 40 CFR Part 52

Environmental protection, Air pollution control, Carbon monoxide, Hydrocarbons, Nitrogen dioxide, Nitrogen oxides, Ozone, Reporting and recordkeeping requirements, Volatile organic compounds.

Dated: November 3, 2000.
Myron O. Knudson,
Acting Regional Administrator, Region 6.

Part 52, chapter I, title 40 of the Code of Federal Regulations is amended as follows:

PART 52—[AMENDED]

1. The authority citation for part 52 continues to read as follows:

Authority: 42 U.S.C. 7401 et seq.

Subpart SS—Texas

2. In § 52.2270 the table in paragraph (c) is amended under Chapter 115 as follows:

a. By removing the entries for “Section 115.010” and “Section 115.010 Table I” and adding in their place a new entry for Section 115.10;

b. By removing the entry for “Section 115.140 to 115.149” and adding in its place “Division 4: Industrial Wastewater” and individual entries for Sections 115.140 and Sections 115.142 through 115.149;

c. By adding new “Division 6: Batch Processes” and individual entries for Sections 115.160 through 115.167 and 115.169 under Subchapter B;

d. By adding individual entries for Section 115.213 through 115.217;

e. By removing the entry for “Section 115.221 to 115 .229” and adding in its place “Division 2: Filling of Gasoline Storage Vessels (Stage I) for Motor Vehicle Fuel Dispensing Facilities” and individual entries for Sections 115.222 through 115.227 and 115.229;

f. By removing the entry for “Section 115.234 to 115.239” and adding in its place “Division 3: Control of Volatile Organic Leaks from Transport Vessels” and individual entries for Sections 115.234 through 115.237 and 115.239.

§ 52.2270 Identification of plan.

* * * * *

(c) * * *

EPA Approved Regulations in the Texas SIP
State citation | Title/Subject | State submittal/adoption date | EPA approval date | Explanation
* * * * * * *
Chapter 115 (Reg 5)—Control of Air Pollution From Volatile Organic Compounds
Subchapter A—Definitions
Section 115.10 | Definitions | June 30, 1999 | 12/20/00 |
Subchapter B—General Volatile Organic Compound Sources
* * * * * * *
Division 4: Industrial Wastewater
Section 115.140 | Industrial Wastewater Definitions | October 27, 1999 | 12/20/00
Section 115.142 | Control Requirements | October 27, 1999 | 12/20/00
Section 115.143 | Alternate Control Requirements | October 27, 1999 | 12/20/00
Section 115.144 | Inspection and Monitoring Requirements | October 27, 1999 | 12/20/00
Section 115.145 | Approved Test Methods | October 27, 1999 | 12/20/00
Section 115.146 | Recordkeeping Requirements | October 27, 1999 | 12/20/00
Section 115.147 | Exemptions | October 27, 1999 | 12/20/00
Section 115.148 | Determination of Wastewater Characteristics | October 27, 1999 | 12/20/00
Section 115.149 | Counties and Compliance Schedule | October 27, 1999 | 12/20/00
* * * * * * *
Division 6: Batch Processes
Section 115.160 | Batch Process Definitions | October 27, 1999 | 12/20/00
Section 115.161 | Applicability | October 27, 1999 | 12/20/00
Section 115.162 | Applicability | October 27, 1999 | 12/20/00
Section 115.163 | Alternate Control Requirements | October 27, 1999 | 12/20/00
Section 115.164 | Determination of Emission and Flow Rates | October 27, 1999 | 12/20/00
Section 115.165 | Approved Test Methods and Testing Requirements | October 27, 1999 | 12/20/00
Section 115.166 | Monitoring and Recordkeeping Requirements | October 27, 1999 | 12/20/00
Section 115.167 | Exemptions | October 27, 1999 | 12/20/00
Section 115.169 | Counties and Compliance Schedules | October 27, 1999 | 12/20/00
Subchapter C—Volatile Organic Compound Transfer Operations
| * * * * * * *
Section 115.213 | Alternate Control Requirements | June 30, 1999 | 12/20/00
Section 115.214 | Inspection Requirements | June 30, 1999 | 12/20/00
Section 115.215 | Approved Test Methods | June 30, 1999 | 12/20/00
Section 115.216 | Monitoring and Recordkeeping Requirements | June 30, 1999 | 12/20/00
Section 115.217 | Exemptions | June 30, 1999 | 12/20/00
* * * * * * *
Division 2: Filling of Gasoline Storage Vessels (Stage I) for Motor Vehicle Fuel Dispensing Facilities
Section 115.222 | Control Requirements | June 30, 1999 | 12/20/00
Section 115.223 | Alternative Control Requirements | June 30, 1999 | 12/20/00
Section 115.224 | Inspection Requirements | June 30, 1999 | 12/20/00
Section 115.225 | Testing Requirements | June 30, 1999 | 12/20/00
Section 115.226 | Recordkeeping Requirements | June 30, 1999 | 12/20/00
Section 115.227 | Exemptions | June 30, 1999 | 12/00/00
Section 115.229 | Counties and Compliance Schedule | June 30, 1999 | 12/20/00
* * * * * * *
Division 3: Control of Volatile Organic Leaks from Transport Vessels
Section 115.234 | Inspection Requirements | June 30, 1999 | 12/20/00
Section 115.235 | Approved Test Methods | June 30, 1999 | 12/20/00
Section 115.236 | Recordkeeping Requirements | June 30, 1999 | 12/20/00
Section 115.237 | Exemptions. | June 30, 1999 | 12/20/00
Section 115.239 | Counties and Compliance Schedules | June 30, 1999 | 12/20/00
* * * * * * *

[FR Doc. 00-31189 Filed 12-19-00; 8:45 am]

BILLING CODE 6560-50-U